DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and Case No. | Date and name of newspaper where notice was published | Chief executive officer of community | Effective date of modification | Community No.
Arkansas: Benton (FEMA Docket No.: B-1162) | City of Bentonville (09-06-3053P) | July 30, 2010; August 6, 2010; The Benton County Daily Record | The Honorable Bob McCaslin, Mayor, City of Bentonville, 117 West Central Avenue; Bentonville, AR 72712 | December 6, 2010 | 050012
New Mexico: Bernalillo (FEMA Docket No.: B-1141) | Unincorporated areas of Bernalillo County (10-06-1078P) | May 26, 2010; June 2, 2010; The Albuquerque Journal | The Honorable Deanna A. Archuleta, Chair, Bernalillo County Board of Commissioners, 1 Civic Plaza Northwest, 10th Floor, Albuquerque, NM 87102 | September 30, 2010 | 350001
New York:
Suffolk (FEMA Docket No.: B-1116) | Town of Southampton (09-02-1473P) | March 4, 2010; March 11, 2010; The Southampton Press | The Honorable Anna Throne-Holst, Southampton Town Board Supervisor, 116 Hampton Road, Southampton, NY 11968 | August 19, 2010 | 365342
Westchester (FEMA Docket No.: B-1141) | Village of Mamaroneck (10-02-0098P) | April 26, 2010; May 3, 2010; The Journal News | The Honorable Norman S. Rosenblum, Mayor, Village of Mamaroneck, 123 Mamaroneck Avenue, Mamaroneck, NY 10543 | October 19, 2010 | 360916
Pennsylvania: Montgomery (FEMA Docket No.: B-1162) | Township of Upper Merion (10-03-0510P) | July 23, 2010; July 30, 2010; The Times Herald | Mr. Ronald Wagenmann, Upper Merion Township Manager, 175 West Valley Forge Road, King of Prussia, PA 19406 | July 16, 2010 | 420957
Texas:
Bexar (FEMA Docket No.: B-1123) | City of San Antonio (09-06-2985P) | April 2, 2010; April 9, 2010; The San Antonio Express-News | The Honorable Julian Castro, Mayor, City of San Antonio, P.O. Box 839966, San Antonio, TX 78283 | August 9, 2010 | 480045
Collin (FEMA Docket No.: B-1141) | City of Dallas (10-06-1626P) | May 25, 2010; June 1, 2010; The Dallas Morning News | The Honorable Tom Leppert, Mayor, City of Dallas, 1500 Marilla Street, Room 5EN, Dallas, TX 75201 | May 17, 2010 | 480171
Comal (FEMA Docket No.: B-1162) | City of Schertz (09-06-3497P) | August 23, 2010; September 1, 2010; The Daily Commercial Recorder | The Honorable Harold D. Baldwin, Mayor, City of Schertz, 1400 Schertz Parkway, Schertz, TX 78154 | August 13, 2010 | 480269
Dallas (FEMA Docket No.: B-1113) | City of Dallas (09-06-2964P) | March 3, 2010; March 10, 2010; The Dallas Morning News | The Honorable Tom Leppert, Mayor, City of Dallas, 1500 Marilla Street, Room 5EN, Dallas, TX 75201 | March 26, 2010 | 480171
Potter and Randall (FEMA Docket No.: B-1162) | City of Amarillo (10-06-2283P) | August 20, 2010; August 26, 2010; The Amarillo Globe-News | The Honorable Debra McCartt, Mayor, City of Amarillo, P.O. Box 1971, Amarillo, TX 79105 | August 13, 2010 | 480529
Rockwall (FEMA Docket No.: B-1124) | City of Rockwall (10-06-0882X) | January 14, 2010; January 21, 2010; The Dallas Morning News | The Honorable William Cecil, Mayor, City of Rockwall, 385 South Goliad Street, Rockwall, TX 75087 | January 20, 2010 | 480547
Tarrant (FEMA Docket No.: B-1162) | City of North Richland Hills (10-06-1011P) | August 4, 2010; August 11, 2010; The Fort Worth Star-Telegram | The Honorable Oscar Trevino, Mayor, City of North Richland Hills, 7301 Northeast Loop 820, North Richland Hills, TX 76180 | July 28, 2010 | 480607

(Catalog of Federal Domestic Assistance No. 97.022, “Flood Insurance.”)
Dated: September 9, 2011.
Sandra K. Knight,
Deputy Associate Administrator for Mitigation, Department of Homeland Security, Federal Emergency Management Agency.

[FR Doc. 2011-24278 Filed 9-20-11; 8:45 am]

BILLING CODE 9110-12-P